DEPARTMENT OF HOUSING AND URBAN DEVELOPMENT

[Docket No. FR-4563-N-03]

Notice of Proposed Information Collection for Public Comment for the Family Report

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: May 30, 2000.

ADDRESSES: Interested persons are invited to submit comments regarding this proposal. Comments should refer to the proposal by name and/or OMB Control number and should be sent to: Mildred M. Hamman, Reports Liaison Officer, Public and Indian Housing, Department of Housing and Urban Development, 451 7th Street, S.W., Room 4238, Washington, D.C. 20410-5000.

FOR FURTHER INFORMATION CONTACT: Mildred M. Hamman, (202) 708-3642, extension 4128, for copies of the proposed forms and other available documents. (This is not a toll-free number.)

SUPPLEMENTARY INFORMATION: The Department will submit the proposed information collection to OMB for review, as required by the Paperwork Reduction Act of 1995 (44 U.S.C. Chapter 35, as amended).

Background

The Department of Housing and Urban Development seeks comments on the revised Form HUD-50058 (changes to the Form are noted in italics). The revised Form HUD-50058 incorporates changes required for the sound management of HUD programs. This includes updates required by the passage of various laws, including the Quality Housing and Work Responsibility Act of 1998 (otherwise known as the Public Housing Reform Act), and other changes.

HUD worked with Public Housing Agencies (PHAs), trade organizations, vendors, and other interested parties to improve reporting to Multifamily Tenant Characteristics System (MTCS), the information system that collects electronic Form HUD-50058 data. In the past year, MTCS public housing reporting improved from 60 to 92 percent, and Section 8 reporting improved from 73 to 97 percent. It is critical that high reporting rates be sustained. HUD will provide technical assistance and training to Field Offices and PHAs to help sustain reporting.

To assure customer input, HUD conducted three industry consultation sessions to identify PHA needs for the revised Form HUD-50058. HUD held the first two sessions in November 1999 and January 2000. On February 10, 2000, the Department held a public forum in Washington, DC for software vendors and PHAs to brief them on the revised Form and MTCS enhancements. HUD seeks to work collaboratively with the user community to produce a user-friendly Form HUD-50058 that meets HUD, PHA, and other needs.

HUD is working to improve not only MTCS, but also the Form HUD-50058 implementation process. HUD will implement a test center to help software vendors and PHAs identify fatal errors prior to the MTCS release date. So that PHAs and software vendors have sufficient time to perform the necessary tests and sustain the high reporting rates, the Department will give them ample notice of the Form HUD-50058 modifications. In addition, HUD will implement a historical database so PHAs and HUD can track trends over time. This capability should provide PHAs greater flexibility and help them better meet local reporting needs.

Highlight of Changes

The revised Form HUD-50058 include changes that cover flat rents, earned income disregards, the Housing Choice Voucher Program, the Voucher Homeownership Program, and the Welfare-to-Work Program. To determine if there is a need for better PHA quality controls, the revised Form HUD-50058 asks PHAs to track the reason for corrections to family data. HUD added new section action codes for voucher issuance to analyze the movement and progression of families who receive rental subsidies. The revised Form HUD-50058 collects, for the first time, information about the family's gross income and any income discrepancy adjustments. The revised Form HUD-50058 also strives to fix certain problems that exist on the current form. Particularly, a PHA will be able to correct erroneous effective dates of action (line 2b) transmitted to MTCS.

This Notice also lists the following information:

Title of Proposal: Family Report.

OMB Control Number: 2577-0083.

Agency Form Number: HUD-50058.

Description of the need for the information and proposed use: Collection of this information is authorized by the U.S. Housing Act of 1937 (42 U.S.C. 1437, et seq.), Title VI of the Civil Rights Act of 1964 (42 U.S.C. 2000d), the Fair Housing Act (42 U.S.C. 3601-19), Section 214 of the Housing and Community Development Act of 1980.

Initially, PHAs will need ½ hour to input the data into each Form HUD-50058. After a one-year period, average input time should be reduced to 15 minutes per Form. The reduction in time is achieved by the pre-entering of key information on the Form (i.e., income changes, change in family composition, etc). PHAs that administer the FSS and/or Welfare to Work voucher program(s) will require an additional 15 minutes per form for completion of the information.

Members of affected public: PHAs, State or Local Governments, Individuals or Households.

Estimation of the total number of hours needed to prepare the information collection including number of respondents, frequency of response, and hours of response:

Information collection | Number of respondents | Responses per respondent | Total annual responses | Hours per response | Total hours | Regulatory reference
HUD-50058 | 4500 | 667.67 | 3,000,000 | 0.5 | 1,500,000 | 985.101

Projected One-Year Period: Hours per response will be reduced to 0.25 for total burden hour of 750,000.

Status of the proposed information collection: Revision and extension of a currently approved collection.

Authority: Section 3506 of the Paperwork Reduction Act of 1995, 44 U.S.C. Chapter 35, as amended.

Dated: March 23, 2000.
Harold Lucas,
Assistant Secretary for Public and Indian Housing.

BILLING CODE 4210-33-M

[FR Doc. 00-7784 Filed 3-29-00; 8:45 am]

BILLING CODE 4210-33-C